DEPARTMENT OF AGRICULTURE

Forest Service

Notice of New Fee Site; Federal Lands Recreation Enhancement Act, (Title VIII, Pub. L. 108-447)

AGENCY: Coronado National Forest, USDA Forest Service, USDA.

ACTION: Notice of new fee site.

SUMMARY: The Coronado National Forest is proposing to charge a $175 fee for the overnight rental of the Sollers Cabin, located on the Santa Catalina Ranger District. The Sollers Cabin has not been available for recreation use prior to this date. Rentals of other cabins on National Forests in Arizona have shown that the public appreciates the enhanced recreational opportunity afforded by these rehabilitated historic structures. Funds from the rental will be used for the continued operation and maintenance of this facility and other properties in the Arizona “Rooms with a View” Cabin Rental Program. This fee is only a proposal and will be determined upon further analysis and public comment.

DATES: Please send any comments on this fee proposal by December, 2016, so comments can be complied, and analyzed and shared with the BLM—Arizona Recreation Resource Advisory Council. If the fee proposal is approved, the Sollers Cabin will likely be available for rent in the spring of 2017.

ADDRESSES: Forest Supervisor, Coronado National Forest, 300 West Congress, Tucson, AZ 85701.

FOR FURTHER INFORMATION CONTACT: Kathy Makansi, Archaeologist, 520-760-2502.

SUPPLEMENTARY INFORMATION: The Federal Recreation Lands Enhancement Act (Title VII, Pub. L. 108-447) directed the Secretary of Agriculture to publish a six month advance notice in the Federal Register whenever new recreation fee areas are established. This new fee will be reviewed by the BLM—Arizona Recreation Resource Advisory Council prior to a final decision and implementation. The Coronado National Forest currently has seven other cabin rentals. These rentals are often fully booked throughout their rental season. Sollers is a large three bedroom (2-story) cabin located in a remote setting (at the end of a dirt road) approximately 20 miles from Tucson, Arizona. The cabin consists of 3 bedrooms, a living room, kitchen, and a bathroom. The cabin also has electricity and indoor plumbing. A business analysis of the Sollers Cabin has shown that people desire having this sort of recreation experience on the Coronado National Forest. A market analysis indicates that the $175.00/per night fee is both reasonable and acceptable for this sort of unique recreation experience.

People wanting to rent the Sollers Cabin will need to do so through the National Recreation Reservation Service, at www.recreation.gov or by calling 1-877-444-6777. The National Recreation Reservation Service charges a $9 fee for reservations.

Dated: June 2, 2016.
Kerwin S. Dewberry,
Coronado National Forest Supervisor.

[FR Doc. 2016-13747 Filed 6-9-16; 8:45 am]

BILLING CODE 3411-15-P